DEPARTMENT OF TRANSPORTATION

Federal Aviation Administration

14 CFR Part 39

[Docket No. 99-NM-221-AD; Amendment 39-11706; AD 2000-08-20]

RIN 2120-AA64

Airworthiness Directives; Lockheed Model L-1011-385 Series Airplanes

AGENCY: Federal Aviation Administration, DOT.

ACTION: Final rule.

SUMMARY: This amendment adopts a new airworthiness directive (AD), applicable to certain Lockheed Model L-1011-385 series airplanes, that requires modification of the high pressure bleed valve controller of each engine. This amendment is prompted by reports of failure of the bleed air system components such as the thermal compensators and bleed air ducts. The actions specified by this AD are intended to prevent such failures of the bleed air system components, which could result in high temperature air leaking into the cabin and/or cargo areas and could possibly require an emergency landing and evacuation.

DATES: Effective June 5, 2000.

The incorporation by reference of certain publications listed in the regulations is approved by the Director of the Federal Register as of June 5, 2000.

ADDRESSES: The service information referenced in this AD may be obtained from Lockheed Martin Aircraft & Logistics Center, 120 Orion Street, Greenville, South Carolina 29605. This information may be examined at the Federal Aviation Administration (FAA), Transport Airplane Directorate, Rules Docket, 1601 Lind Avenue, SW., Renton, Washington; or the FAA, Small Airplane Directorate, Atlanta Aircraft Certification Office, One Crown Center, 1895 Phoenix Boulevard, suite 450, Atlanta, Georgia; or at the Office of the Federal Register, 800 North Capitol Street, NW., suite 700, Washington, DC.

FOR FURTHER INFORMATION CONTACT: Thomas Peters, Aerospace Engineer, Systems and Flight Test Branch, ACE-116A, FAA, Small Airplane Directorate, Atlanta Aircraft Certification Office, One Crown Center, 1895 Phoenix Boulevard, suite 450, Atlanta, Georgia 30349; telephone (770) 703-6063; fax (770) 703-6097.

SUPPLEMENTARY INFORMATION: A proposal to amend part 39 of the Federal Aviation Regulations (14 CFR part 39) to include an airworthiness directive (AD) that is applicable to certain Lockheed Model L-1011-385 series airplanes was published in the Federal Register on October 6, 1999 (64 FR 54232). That action proposed to require modification of the high pressure bleed valve controller of each engine.

Interested persons have been afforded an opportunity to participate in the making of this amendment. Due consideration has been given to the comments received.

Support for the Proposal

One commenter supports the proposed rule.

Request to Specify Lockheed Service Bulletin Reference to Hamilton Standard Service Bulletin

One commenter, the manufacturer, requests that the language in NOTE 2 of the proposal be revised to reflect that the Lockheed Service Bulletin 093-36-065, dated February 9, 1999, specifically references Hamilton Standard Service Bulletin 36-1060 R1, dated March 1, 1997.

The FAA concurs with the commenter's request and has revised NOTE 2 of the final rule accordingly.

Request to Extend the Compliance Time

One commenter, an airline operator, requests that the compliance time for the proposed modification be revised to coincide with a “C” check interval. The commenter states that the proposed compliance time of 14 months does not match its “C” check interval of 19 months. The commenter explains that it will incur an undue financial burden unless the compliance time is extended to 19 months since it is necessary to remove an airplane from service in order to accomplish the tasks associated with the proposal.

The FAA does not concur. The modification of the bleed valve controller itself (installing the new check valve) can be accomplished previous to installation of the bleed valve controller on the airplane. The FAA estimates that the installation of the modified bleed valve controller will take 1 work hour to accomplish. If installation of the modified check valve is performed with the controller mounted on the engine, the installation can still be accomplished in approximately 2 work hours. Therefore, the FAA considers that it is not necessary to accomplish the required modification during an extended downtime of a “C” check. Therefore, it is unnecessary to revise the final rule.

Request to Revise the “Differences” Section

One commenter, the manufacturer, requests that the FAA revise the “Differences Between Proposed Rule and Service Information” section of the proposal to specify “this proposed AD would require the modification of both high pressure bleed valve controller types to a later configuration (P/N 739084-4) with the installation of the restrictor check valve P/N 764898-2 or later.”

The FAA acknowledges that the “Differences Between Proposed Rule and Service Information” section of the proposed AD, as revised by the commenter clarifies the intent of the proposed rule. However, since that section of the preamble does not reappear in the final rule, no change to the final rule is necessary.

Request to Specify Certain High Pressure Bleed Valve Controllers

That same commenter, the manufacturer, requests that paragraph (b) of the proposal be revised to specify particular high pressure bleed valve controllers. The commenter suggests that the revised paragraph should read that “No person shall install on any airplane a high pressure bleed valve controller, Hamilton Standard P/N 739084-2 or 739084-3 (Lockheed P/N 672286-103 or 672286-105), unless it has been modified in accordance with this AD.” The FAA concurs and has revised paragraph (b) of the final rule accordingly.

Conclusion

After careful review of the available data, including the comments noted above, the FAA has determined that air safety and the public interest require the adoption of the rule with the changes previously described. The FAA has determined that these changes will neither increase the economic burden on any operator nor increase the scope of the AD.

Cost Impact

There are approximately 235 Model L-1011-385 series airplanes of the affected design in the worldwide fleet. The FAA estimates that 116 airplanes of U.S. registry will be affected by this AD, that it will take approximately 2 work hours per airplane to accomplish the required actions, and that the average labor rate is $60 per work hour. Required parts will cost approximately $650 per airplane. Based on these figures, the cost impact of the AD on U.S. operators is estimated to be $89,320, or $770 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-08-20 Lockheed: Amendment 39-11706. Docket 99-NM-221-AD.

Applicability: Model L-1011-385-1, -1-14, -1-15, and -3 series airplanes, equipped with high pressure bleed valve controller Hamilton Standard part number (P/N) 739084-2 or 739084-3 (Lockheed P/N 672286-103 or 672286-105); certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failures of the bleed air system components, which could result in high temperature air leaking into the cabin and/or cargo areas and could possibly require an emergency landing and evacuation, accomplish the following:

(a) Within 14 months after the effective date of this AD, modify the high pressure bleed valve controller of each engine in accordance with Lockheed Service Bulletin 093-36-065, dated February 9, 1999.

Note 2: Lockheed Service Bulletin 093-36-065, dated February 9, 1999, references Hamilton Standard Service Bulletin 36-1060, Revision 1, dated March 1, 1977, as an additional source of service information for the modification of the high pressure bleed valve controller of each engine.

(b) As of the effective date of this AD, no person shall install on any airplane a high pressure bleed valve controller having Hamilton Standard part number (P/N) 739084-2 or 739084-3 (Lockheed P/N 672286-103 or 672286-105), unless it has been modified in accordance with this AD.

Alternative Methods of Compliance

(c) An alternative method of compliance or adjustment of the compliance time that provides an acceptable level of safety may be used if approved by the Manager, Atlanta Aircraft Certification Office (ACO), FAA, Small Airplane Directorate. Operators shall submit their requests through an appropriate FAA Principal Maintenance Inspector, who may add comments and then send it to the Manager, Atlanta ACO.

Note 3: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Lockheed Service Bulletin 093-36-065, dated February 9, 1999. This incorporation by reference was approved by the Director of the Federal Register in accordance with 5 U.S.C. 552(a) and 1 CFR part 51. Copies may be obtained from Lockheed Martin Aircraft & Logistics Center, 120 Orion Street, Greenville, South Carolina 29605. Copies may be inspected at the FAA, Transport Airplane Directorate, 1601 Lind Avenue, SW., Renton, Washington; or at the FAA, Small Airplane Directorate, Atlanta Aircraft Certification Office, One Crown Center, 1895 Phoenix Boulevard, suite 450, Atlanta, Georgia; or at the Office of the Federal Register, 800 North Capitol Street, NW., suite 700, Washington, DC.

(f) This amendment becomes effective on June 5, 2000.

Issued in Renton, Washington, on April 19, 2000.
Donald L. Riggin,
Acting Manager, Transport Airplane Directorate, Aircraft Certification Service.

[FR Doc. 00-10286 Filed 4-28-00; 8:45 am]

BILLING CODE 4910-13-U